DEPARTMENT OF HEALTH AND HUMAN SERVICES

Centers for Medicare and Medicaid Services

[CMS-3075-N]

Medicare Program; Meeting of the Executive Committee of the Medicare Coverage Advisory Committee—October 17, 2001

AGENCY: Centers for Medicare & Medicaid Services (CMS), HHS.

ACTION: Notice of meeting.

SUMMARY: This notice announces a public meeting of the Executive Committee of the Medicare Coverage Advisory Committee (the Committee). The Committee will act on the recommendation of the Diagnostic Imaging panel regarding FDG Positron Emission Tomography (PET) imaging for breast cancer diagnosis and staging, and the recommendation of the Drugs, Biologics and Therapeutics panel regarding use of levocarntine in End Stage Renal Disease (ESRD) patients. Notice of this meeting is given under the Federal Advisory Committee Act (5 U.S.C. App. 2, section 10(a)(1) and (a)(2)).

DATES: The Meeting: October 17, 2001 from 8 a.m. until 4:30 p.m., E.D.T.

Deadline for Presentations and Comments: October 3, 2001, 5 p.m., E.D.T.

Special Accommodations: Persons attending the meeting who are hearing or visually impaired, and have a condition that requires special assistance or accommodations, are asked to notify the Executive Secretary by September 26, 2001 (see FOR FURTHER INFORMATION CONTACT).

ADDRESSES: The Meeting: The meeting will be held at the Centers for Medicare & Medicaid Services (CMS) headquarters, Multipurpose Room, 7500 Security Blvd, Baltimore, MD 21244.

Presentations and Comments: Submit formal presentations and written comments to Janet A. Anderson, Executive Secretary; Office of Clinical Standards and Quality; Centers for Medicare & Medicaid Services; 7500 Security Boulevard; Mail Stop C1-09-06; Baltimore, MD 21244.

Web site: You may access up-to-date information on this meeting at www.hcfa.gov/coverage.

Hotline: You may access up-to-date information on this meeting on the CMS Medicare Advisory Committee Information Hotline, 1-877-449-5659 (toll free) or in the Baltimore area (410) 786-9379.

FOR FURTHER INFORMATION CONTACT: Janet A. Anderson, Executive Secretary, (410) 786-2700.

SUPPLEMENTARY INFORMATION: On August 13, 1999, we published a notice in the Federal Register (64 FR 44231) to describe the Medicare Coverage Advisory Committee (Committee), which provides advice and recommendations to us about clinical issues. This notice announces the following public meeting of the Committee.

Current Panel Members

Harold C. Sox, MD; Robert H. Brook, MD, ScD; Daisy Alford-Smith, PhD; Wade Aubry, MD; Linda Bergthold, PhD; Ronald M. Davis, MD; John H. Ferguson, MD; Leslie P. Francis, JD, PhD; Alan M. Garber, MD, PhD; Thomas V. Holohan, MA, MD, FACP; Joe W. Johnson, DC; Michael D. Maves, MD, MBA; Barbara McNeil, MD, PhD; Robert L. Murray, PhD; Frank Papatheofanis, MD, PhD; Randel E. Richner, MPH.

Meeting Topic

The Committee will act on the recommendation of the Diagnostic Imaging panel regarding FDG Positron Emission Tomography (PET) imaging for breast cancer diagnosis and staging, and the recommendation of the Drugs, Biologics and Therapeutics panel regarding use of levocarntine in End Stage Renal Disease (ESRD) patients.

Procedure and Agenda

This meeting is open to the public. The Committee will hear oral presentations from the public for approximately 90 minutes. The Committee may limit the number and duration of oral presentations to the time available. If you wish to make a formal presentation you must notify the Executive Secretary named in the FOR FURTHER INFORMATION CONTACT section of this notice. In addition, the Executive Secretary must receive, by the Deadline for Presentations and Comments date listed in the DATES section of this notice, the names and addresses of proposed participants; a brief statement of the general nature of the evidence or arguments you wish to present; and a written copy of your presentation. We will request that you declare at the meeting whether or not you have any financial involvement with manufacturers of any items or services being discussed (or with their competitors).

After the public and CMS presentations, the Committee will deliberate openly on the topic. Interested persons may observe the deliberations, but the Committee will not hear further comments during this time except at the request of the chairperson. The Committee will also allow approximately a 30-minute open public session for any attendee to address issues specific to the topic. At the conclusion of the day, the members will vote and the Committee will make its recommendation.

Authority: 5 U.S.C. App. 2, section 10(a)(1) and (a)(2).

(Catalog of Federal Domestic Assistance Program No. 93.774, Medicare—Supplementary Medical Insurance Program)

Dated: September 5, 2001.
Jeffrey L. Kang,
Director, Office of Clinical Standards and Quality, Centers for Medicare & Medicaid Services.

[FR Doc. 01-23325 Filed 9-18-01; 8:45 am]

BILLING CODE 4120-01-P